DEPARTMENT OF COMMERCE

National Oceanic and Atmospheric Administration

Proposed Information Collection; Comment Request; Economic Value of Non-Consumptive Recreation Use From Those Accessing the Monterey Bay National Marine Sanctuary via For Hire Operation Boats

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 4, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Dr. Vernon R. (Bob) Leeworthy, (301) 713-7261 or Bob.Leeworthy@noaa.gov.

SUPPLEMENTARY INFORMATION:

I. Abstract

This request is for a new information collection.

NOAA is mentoring student interns from the Monterey Institute for International Studies to estimate the market and non-market economic values associated with non-consumptive recreation uses (e.g., whale watching, other wildlife observation, SCUBA diving, snorkeling, beach activities, surfing, wind-surfing, kite boarding, paddle boarding, etc.) in the Monterey Bay National Marine Sanctuary (MBNMS) for those accessing the MBNMS via “for hire” operation boats.

We will conduct surveys of the for hire operations that take people out for non-consumptive recreation, to obtain total use by type of activity and the spatial use by type of activity. Information will also be obtained on costs-and-earnings of the operations, knowledge, attitudes and perceptions of sanctuary management strategies and regulations, and demographic information on owner/captains and crews. Surveys will also be conducted of the passengers aboard the for hire operation boats to obtain their market and non-market economic use values for non-consumptive recreation use and how those value change with changes in natural resource attribute conditions and user characteristics. Additional information will be obtained on importance-satisfaction ratings of key natural resource attributes, facilities and services, knowledge, attitudes and perceptions of management strategies and regulations, and demographic profiles of passengers.

II. Method of Collection

For the for hire operations, a team of students will go to the operations offices and collect the information. For the passengers, surveys will be conducted at the docks after the completion of their trips. The on-site survey will obtain information on demographic profiles, annual number of trips in the MBNMS for non-consumptive recreation, and their non-market economic use value. Self-addressed, postage paid mail back questionnaires will be used for importance-satisfaction ratings, knowledge, attitudes and perceptions, and trip expenditures.

III. Data

OMB Control Number: 0648-xxxx.

Form Number: None.

Type of Review: Regular submission (request for a new information collection).

Affected Public: Business or other for-profit organizations; individuals or households.

Estimated Number of Respondents: 1,050.

Estimated Time per Response: 2 hours per for hire operation, 20 minutes per on-site interview of passengers, 20 minutes per importance-satisfaction/knowledge, attitudes and perceptions mail back, and 20 minutes for the expenditure mail back.

Estimated Total Annual Burden Hours: 733.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 2, 2015.
Sarah Brabson,
NOAA PRA Clearance Officer.

[FR Doc. 2015-05019 Filed 3-4-15; 8:45 am]

BILLING CODE 3510-NK-P